DEPARTMENT OF THE TREASURY

Office of Foreign Assets Control

31 CFR Part 587

Publication of Russian Harmful Foreign Activities Sanctions Regulations Web General Licenses 56A and 57A

AGENCY: Office of Foreign Assets Control, Treasury.

ACTION: Publication of web general licenses.

SUMMARY: The Department of the Treasury's Office of Foreign Assets Control (OFAC) is publishing two general licenses (GLs) issued pursuant to the Russian Harmful Foreign Activities Sanctions Regulations: GLs 56A and 57A, which were previously made available on OFAC's website.

DATES: GLs 56A and 57A were issued on February 3, 2023. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 3, 2022, OFAC issued GLs 56A and 57A to authorize certain transactions otherwise prohibited by the Russian Harmful Foreign Activities Sanctions Regulations, 31 CFR part 587 (RuHSR). At the time of issuance, OFAC made GLs 56A and 57A available on its website (www.treas.gov/ofac). The text of these GLs is provided below.

OFFICE OF FOREIGN ASSETS CONTROL

Russian Harmful Foreign Activities Sanctions Regulations

31 CFR Part 587

GENERAL LICENSE NO. 56A

Authorizing Certain Services With Respect to the European Union

(a) Except as provided in paragraph (b) of this general license, all transactions prohibited by (1) the determination of November 21, 2022 made pursuant to section 1(a)(ii) of Executive Order (E.O.) 14071 (“Prohibitions on Certain Services as They Relate to the Maritime Transport of Crude Oil of Russian Federation Origin”) related to the importation of crude oil, or (2) the determination of February 3, 2023 made pursuant to section 1(a)(ii) of E.O. 14071 (“Prohibitions on Certain Services as They Relate to the Maritime Transport of Petroleum Products of Russian Federation Origin”) related to the importation of petroleum products, into the Republic of Bulgaria, the Republic of Croatia, or landlocked European Union Member States as described in Council Regulation (EU) 2022/879 of June 3, 2022, are authorized.

(b) This general license does not authorize any transactions otherwise prohibited by the Russian Harmful Foreign Activities Sanctions Regulations, 31 CFR part 587 (RuHSR), including transactions involving any person blocked pursuant to the RuHSR, unless separately authorized.

(c) Effective February 3, 2023, General License No. 56, dated November 22, 2022, is replaced and superseded in its entirety by this General License No. 56A.

Andrea M. Gacki, Director, Office of Foreign Assets Control.

Dated: February 3, 2023.

OFFICE OF FOREIGN ASSETS CONTROL

Russian Harmful Foreign Activities Sanctions Regulations

31 CFR Part 587

GENERAL LICENSE NO. 57A

Authorizing Certain Services Related to Vessel Emergencies

(a) Except as provided in paragraph (b) of this general license, all transactions prohibited by (1) the determination of November 21, 2022 made pursuant to section 1(a)(ii) of Executive Order (E.O.) 14071 (“Prohibitions on Certain Services as They Relate to the Maritime Transport of Crude Oil of Russian Federation Origin”) or (2) the determination of February 3, 2023 made pursuant to section 1(a)(ii) of E.O. 14071 (“Prohibitions on Certain Services as They Relate to the Maritime Transport of Petroleum Products of Russian Federation Origin”) that are ordinarily incident and necessary to addressing vessel emergencies related to the health or safety of the crew or environmental protection, including safe docking or anchoring, emergency repairs, or salvage operations, are authorized.

(b) This general license does not authorize:

(1) Any transactions related to the offloading of crude oil or petroleum products of Russian Federation origin, except for the offloading of crude oil or petroleum products that is ordinarily incident and necessary to address vessel emergencies authorized pursuant to paragraph (a) of this general license;

(2) Any transactions related to the sale of crude oil or petroleum products of Russian Federation origin; or

(3) Any transactions otherwise prohibited by the Russian Harmful Foreign Activities Sanctions Regulations, 31 CFR part 587 (RuHSR), including transactions involving any person blocked pursuant to the RuHSR, unless separately authorized.

(c) Effective February 3, 2023, General License No. 57, dated November 22, 2022, is replaced and superseded in its entirety by this General License No. 57A.

Andrea M. Gacki, Director, Office of Foreign Assets Control.

Dated: February 3, 2023.

Andrea M. Gacki,
Director, Office of Foreign Assets Control.

[FR Doc. 2023-04346 Filed 3-2-23; 8:45 am]

BILLING CODE 4810-AL-P